DEPARTMENT OF AGRICULTURE

Submission for OMB Review; Comment Request

July 10, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Animal Health Reporting System (NAHRS).

OMB Control Number: 0579-0299.

Summary of Collection: The National Animal Health Reporting System (NAHRS) was developed through a cooperative effort between the United States Animal Health Association, the American Association of Veterinary Laboratory Diagnosticians, and the Animal and Plant Health Inspection Service (APHIS). NAHRS provides an ongoing national measure of the health status of the nation's livestock. The National Center for Animal Health Surveillance involvement in this voluntary monitoring activity is to facilitate standardization of the data throughout the United States and provide a central point for national collection. The evolving international trade arena and increased competition have heightened the need to have accurate, timely information to maintain and increase U.S. animal agriculture's overseas market share, NAHRS provides information that helps meet this need.

Need and Use of the Information: The objective of the NAHRS is to collect data needed to report the presence of confirmed clinical disease in commercial livestock, poultry, and aquaculture species in the U.S. These reports are required for membership by the Office International des Epizooties, and to meet international trade reporting requirements for animal health. On a monthly basis State veterinarians in each of the 50 States are asked to complete the NAHRS Reportable Disease List Form. The form collects qualitative data from reporting States on the confirmed presence or absence of diseases, but does not collect or report the number of cases.

Description of Respondents: State, Local, or Tribal Government.

Number of Respondents: 50.

Frequency of Responses: Reporting: Annually.

Total Burden Hours: 2,400.

Ruth Brown,
Departmental Information Collection Clearance Officer.

[FR Doc. E9-16785 Filed 7-14-09; 8:45 am]

BILLING CODE 3410-34-P